DEPARTMENT OF AGRICULTURE

Forest Service

Dakota Prairie Grasslands; North Dakota and South Dakota; Dakota Prairie Grasslands Noxious Weed Management Strategy EIS

AGENCY: Forest Service, USDA.

ACTION: Notice of intent to prepare an environmental impact statement.

SUMMARY: The Dakota Prairie Grasslands (DPG) proposes to use an integrated approach to treat and control noxious weeds on approximately 35,000 acres of existing infestation sites, and 8,000 acres of new or previously unknown acres in a manner consistent with Dakota Prairie Grasslands Land and Resource Management Plan direction and applicable laws. The Environmental Impact Statement (EIS) will analyze the methods to be used in an integrated approach, and disclose the environmental effects of the proposal and alternatives.

DATES: Comments concerning the scope of the analysis must be received within 30 days of publication of this notice in the Federal Register. The draft EIS is expected by September 2005 and the final EIS is expected by February 2006.

ADDRESSES: Send written comments to Sheila McNee, Noxious Weed EIS, Dakota Prairie Grasslands, 240 W. Century Ave., Bismarck, ND 58503 or e-mail your comments to comments-northern-dakota-prairie@fs.fed.us.

FOR FURTHER INFORMATION CONTACT: Sheila McNee, Project Leader, Dakota Prairie Grasslands, USDA Forest Service at the above address or call (701) 250-4443.

SUPPLEMENTARY INFORMATION:

Purpose and Need for Action

An aggressive and effective weed control program is dictated by U.S. Forest Service policies (FSM 2080), the DPG Land and Resource Management Plan (Grasslands Plan), other Forest Service objectives, and by the February 3, 1999 Executive Order 13112 “to prevent the introduction of invasive species and provide for their control and to minimize the economic, ecological and human health impacts that invasive species cause.” The DPG has been treating noxious weeds on each Ranger District under previous NEPA decisions including the 1986 Custer National Forest Noxious Weed Environmental Impact Statement; however, an updated noxious weed control analysis is needed to address newly listed noxious weeds species, to identify additional acres of noxious weed infestations, to ensure we are complying with the revised Grasslands Plan, and to incorporate the use of new, more effective herbicides, technologies, and biological controls as appropriate.

Proposed Action

The Dakota Prairie Grasslands consists of four National Grasslands and two experimental forests. The Forest Service proposes to treat noxious weeds using an integrated approach on approximately 14,500 acres of existing infestation sites distributed across the Little Missouri, Cedar River and Grand River National Grasslands and the Denbigh and Souris Experimental Forests. This proposal also allows up to 15 percent or about 2,000 additional acres of new or previously unknown infestations to be treated as they are discovered. On the Sheyenne National Grassland, all 20,500 acres of existing infestation sites are proposed for treatment. The proposal would allow treatment up to 30 percent more or 6,000 acres of new or previously unknown infestations on the Sheyenne Ranger District. Some acres may need annual treatments while others may only need to be treated once.

An integrated management approach would be used to control noxious weeds. This approach may combine methods where it is deemed appropriate and effective. Proposed methods include the following: (1) Mechanical methods, such as hand pulling, mowing, or burning. (2) Revegetation, where competitive native vegetation is seeded to reduce noxious species, possibly after other treatments to remove the noxious weeds. (3) Grazing with livestock such as goats or sheep. (4) Biological control through the use of predators, parasites, and pathogens. (5) Herbicide control using ground-based and aerial based application methods.

Possible Alternatives

A No Action alternative will be analyzed. No treatments would occur, except for those biological controls already in place on the ground.

Using public and internal input, the Forest Service team will identify additional action alternatives to the proposed action, and determine which ones need to be fully analyzed.

Responsible Official

David M. Pieper, Grasslands Supervisor, is the responsible official. See address under the ADDRESSES section above.

Nature of Decision To Be Made

The Responsible Official will decide what level of weed control to implement, where and what kind of weed controls will be used, what mitigation measures will be required, what monitoring will be required to ensure that project objectives are being met and what, if any, Grassland Plan amendments are required.

Scoping Process

The Forest Service mailed scoping packages on the proposed action to approximately 177 potentially interested or affected individuals, organizations, local and state governments, and local, State and Federal agencies on March 31, 2004, with a request for responses by April 30, 2004. Eleven comments were received. In the cover letter, it was stated that the Forest Service may prepare either an environmental assessment or an environmental impact statement, but that if aerial spraying was considered, and/or scoping results or further analysis indicated that the project might have significant environmental impacts, an environmental impact statement would be prepared.

With the inclusion of aerial spraying, the Forest Service has decided to prepare an environmental impact statement. This notice of intent invites additional public comment on the proposal and initiates the preparation of the environmental impact statement. Due to the scoping effort already conducted, no further scoping meetings or mailings are planned. The public is encouraged to take part in the process and to visit with Forest Service officials any time during the analysis and prior to the decision. While public participation in this analysis is welcome at any time, comments received within 30 days of the publication of this notice will be especially useful in the preparation of the draft environmental impact statement. Two minor changes have been made since the original scoping. The total number of acres proposed to be treated has increased 2,000 acres and the no action alternative is now no treatment instead of continuing the existing management.

Preliminary Issues

The following are the preliminary issues identified for this project:

(1) Treatments may have adverse effects on the prairie fringed orchid, a federally threatened plant species that occurs on the Sheyenne National Grassland.

(2) Treatments may have adverse effects to soil and water quality.

(3) Treatments may have adverse effects on sensitive butterfly species or their habitats.

(4) Treatments may have adverse effects on fish species or their habitats.

(5) Aerial application of herbicides may have adverse effects on non-target species.

(6) The use of herbicides for invasive weed control may cause acute (short term) or chronic (long term) health problems for people who come into contact with the herbicides and/or treated areas.

Comment Requested

This notice of intent initiates the scoping process, which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 31, 2005.
Thomas J. Turck,
Planning Staff Officer.

[FR Doc. 05-11683 Filed 6-13-05; 8:45 am]

BILLING CODE 3410-11-M